DEPARTMENT OF DEFENSE

Office of the Secretary

Defense Science Board

AGENCY: Department of Defense.

ACTION: Notice of closed advisory committee meetings.

SUMMARY: The Defense Science Board Task Force on Software Assurance will meet the closed session on December 14-15, 2006; at Science Applications International Corporation (SAIC), 4001 N. Fairfax Drive, Arlington, VA. This meeting is to assess the future direction of space requirements and identify the industrial base to meet the Nation's future requirements.

The mission of the Defense Science Board is to advise the Secretary of Defense and the Under Secretary of Defense for Acquisition, Technology & Logistics on scientific and technical matters as they affect the perceived needs of the Department of Defense. At these meetings, the Defense Science Board Task Force will: Assess the health of the U.S. space industrial base and determine if there is any adverse impact from export controls, in particular, on the health of lower-tier contractors; anticipate future space requirements and the shape of the space industrial base required to achieve the anticipated capabilities; and recommend improvements to current policies and processes, where applicable, while also identifying policies and processes that can shape the space industrial base to deliver future capabilities.

In accordance with section 10(d) of the Federal Advisory Committee Act, Pub. L. 92-463, as amended (5 U.S.C. App. II), it has been determined that these Defense Board Task Force meetings concern matters listed in 5 U.S.C. 552b(c)(1) and that, accordingly, the meetings will be closed to the public.

FOR FURTHER INFORMATION CONTACT: LCDR Clifton Phillips, USN, Defense Science Board, 3140 Defense Pentagon, Room 3C553, Washington, DC 20301-3140, via e-mail at clifton.phillips@osd.mil, or via phone at (703) 571-0083.

Due to scheduling and work burden difficulties, there is insufficient time to provide timely notice required by Section 10(a) of the Federal Advisory Committee Act and Subsection 102-3.150(b) of the GSA Final Rule on Federal Advisory Committee Management, 41 CFR 102-3.150(b), which further requires publication at least 15 calendar days prior to the meeting.

Dated: December 5, 2006.
C.R. Choate,
Alternate OSD Federal Register Liaison Officer, Department of Defense.

[FR Doc. 06-9615 Filed 12-8-06; 8:45 am]

BILLING CODE 5001-06-M